DEPARTMENT OF ENERGY

Federal Energy Regulatory Commission

[Docket No. EL06-62-000]

H-P Energy Resources, LLC, Complainant v. PJM Interconnection, LLC, Respondent, Notice of Complaint

March 24, 2006.

Take notice that on March 23, 2006, H-P Energy Resources, LLC (Energy Resources), pursuant to sections 206 and 306 of the Federal Power Act, 16 U.S.C. 824e and 825e, and sections 206 and 212 of the Commission's Rules of Practice and Procedures, 18 CFR 385.206 and 385.212, filed a complaint against PJM Interconnection, LLC (PJM) alleging that, in contravention of PJM's Open Access Transmission Tariff, PJM has failed to provide an appropriate quantity of Incremental Auction Revenue Rights for a merchant transmission project on the Bedington-Black Oak circuit.

Energy Resources certifies that a copy of the complaint has been served on PJM.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time April 12, 2006.

Magalie R. Salas,
Secretary.

[FR Doc. E6-4644 Filed 3-29-06; 8:45 am]

BILLING CODE 6717-01-P